ENVIRONMENTAL PROTECTION AGENCY

40 CFR Part 432

[FRL-7565-2]

RIN 2040-AD56

Extension of Comment Period on the Notice of Data Availability for the Effluent Limitations Guidelines and New Source Performance Standards for the Meat and Poultry Products Point Source Category

AGENCY: Environmental Protection Agency (EPA).

ACTION: Extension of comment period.

SUMMARY: On August 13, 2003, EPA published a Notice of Data Availability for the proposed effluent limitations guidelines and standards for the meat and poultry products (MPP) point source category (68 FR 48472). The notice presented a summary of new data and described how EPA might use the data to develop final MPP regulations. This action extends the comment period for the Notice of Data Availability to October 14, 2003.

DATES: Comments on the Notice of Data Availability will be accepted through October 14, 2003. Comments provided electronically will be considered timely if they are submitted by 11:59 p.m. Eastern Time on October 14, 2003.

ADDRESSES: Public comments regarding this document should be mailed to Water Docket, U.S. Environmental Protection Agency, Mailcode 4101T, 1200 Pennsylvania Avenue, NW., Washington, DC 20460, Attention Docket ID No. OW-2002-0014, or submitted electronically at http://www.epa.gov/edocket.

FOR FURTHER INFORMATION CONTACT: For additional information, contact Ms. Samantha Lewis at (202) 566-1058 or at the following e-mail address: lewis.samantha@epa.gov or Ms. Shari Barash at (202) 566-0996 or at the following e-mail address: barash.shari@epa.gov.

SUPPLEMENTARY INFORMATION: In February 2002, EPA proposed effluent limitations guidelines and standards for wastewater discharges from meat and poultry processing facilities (67 FR 8582, February 25, 2002). The proposed regulation included revised effluent standards for wastewater discharges associated with the operation of new and existing meat processing and independent rendering facilities, and also proposed new effluent limitations for poultry slaughtering and poultry further processing facilities. In the proposal, EPA specifically solicited comment on 20 issues. EPA received comments on these and other issues from various stakeholders, including State and local regulatory authorities, environmental groups, individual industrial facilities and industry groups, and private citizens.

On August 13, 2003, EPA published a Notice of Data Availability for the proposed rule (68 FR 48472). The Notice of Data Availability presented a summary of data received in comments and additional data collected by EPA along with descriptions of how the data may be used by EPA in developing final regulations. The comment period for the Notice of Data Availability was originally scheduled to end on September 29, 2003. This action extends the comment period to October 14, 2003.

To submit comments, or access the official public docket, please follow the detailed instructions as provided in Unit C of the SUPPLEMENTARY INFORMATION section of the August 13, 2003 Federal Register notice. If you have questions, consult the person listed under the FOR FURTHER INFORMATION CONTACT section of this notice.

Dated: September 23, 2003.
G. Tracy Mehan, III,
Assistant Administrator, Office of Water.

[FR Doc. 03-24770 Filed 9-26-03; 8:45 am]

BILLING CODE 6560-50-P